SUSQUEHANNA RIVER BASIN COMMISSION

Actions Taken at December 11, 2020, Meeting

AGENCY: Susquehanna River Basin Commission

ACTION: Notice.

SUMMARY: As part of its regular business meeting held on December 11, 2020, from Harrisburg, Pennsylvania, the Commission approved the applications of certain water resources projects, and took additional actions, as set forth in the Supplementary Information below.

DATES: December 11, 2020.

ADDRESSES: Susquehanna River Basin Commission, 4423 N Front Street, Harrisburg, PA 17110-1788.

FOR FURTHER INFORMATION CONTACT: Jason E. Oyler, General Counsel and Secretary, telephone: (717) 238-0423, ext. 1312, fax: (717) 238-2436; email: joyler@srbc.net. Regular mail inquiries may be sent to the above address. See also Commission website at www.srbc.net.

SUPPLEMENTARY INFORMATION: In addition to the actions taken on projects identified in the summary above and the listings below, the following items were also presented or acted upon at the business meeting: (1) Tabled action on a policy to incentivize the use of impaired waters; (2) adoption of an updated regulatory program fee schedule; (3) adoption of a general permit for groundwater remediation projects; (4) ratification/approval of contracts/grants; (5) a report on delegated settlements; and (6) Regulatory Program projects.

The Commission is also making its draft Comprehensive Plan available for public comment. The draft plan can be obtained by visiting the Commission's website, https://www.srbc.net/our-work/programs/planning-operations/comprehensive-plan.html, or by contacting Paula Ballaron, Manager of Policy Implementation and Outreach. The Commission will hold a public hearing on the Comprehensive Plan on February 4, 2021 via telephone. The Commission will also host two webinars on January 25 and 27, 2021. Written public comments may be sent to John Balay, Manager of Planning & Operations.

The deadline for written public comments is February 19, 2021.

Project Applications Approved

1. Project Sponsor and Facility: Cabot Oil & Gas Corporation (Susquehanna River), Susquehanna Depot Borough, Susquehanna County, Pa. Application for renewal of surface water withdrawal of up to 1.500 mgd (peak day) (Docket No. 20161202).

2. Project Sponsor and Facility: Chesapeake Appalachia, L.L.C. (Towanda Creek), Monroe Borough and Monroe Township, Bradford County, Pa. Application for surface water withdrawal of up to 1.500 mgd (peak day).

3. Project Sponsor and Facility: Denver Borough, Lancaster County, Pa. Application for renewal of groundwater withdrawal of up to 0.120 mgd (30-day average) from Well 4 (Docket No. 19960102).

4. Project Sponsor and Facility: Elmira Water Board, City of Elmira, Chemung County, N.Y. Applications for renewal of groundwater withdrawals (30-day averages) of up to 0.958 mgd from Well PW-40, 1.656 mgd from Well PW-41, and 0.389 mgd from Well PW-42, for a total wellfield limit of 3.000 mgd (Docket No. 19901105).

5. Project Sponsor: Goodyear Lake Hydro, LLC. Project Facility: Colliersville Hydroelectric Project, Town of Milford, Otsego County, N.Y. Application for an existing hydroelectric facility.

6. Project Sponsor: Borough of Middletown. Project Facility: SUEZ/Middletown Water System, Middletown Borough, Dauphin County, Pa. Application for renewal of groundwater withdrawal of up to 0.219 mgd (30-day average) from Well 5 (Docket No. 19890701), as well as recognizing historic withdrawals from Wells 1, 2, 3, and 4.

7. Project Sponsor and Facility: Seneca Resources Company, LLC (Cowanesque River), Deerfield Township, Tioga County, Pa. Application for renewal of surface water withdrawal of up to 0.999 mgd (peak day) (Docket No. 20161218-2).

Project Scheduled for Action Involving a Diversion

8. Project Sponsor: JKLM Energy, LLC. Project Facility: Goodwin and Son's Sand and Gravel Quarry, Roulette Township, Potter County, Pa. Application for renewal of an into-basin diversion from the Ohio River Basin of up to 1.100 mgd (peak day) from the Goodwin and Son's Sand and Gravel Quarry (Docket No. 20161221).

Commission Initiated Project Approval Modifications

9. Project Sponsor: Lycoming County Recreation Authority. Project Facility: White Deer Golf Courses, Brady Township, Lycoming County, Pa. Conforming the grandfathered amount with the forthcoming determination for a groundwater withdrawal of up to 0.169 mgd (30-day average) from Well 2 (Docket No. 20020806).

Project Applications Tabled

10. Project Sponsor and Facility: Hastings Municipal Authority, Elder Township, Cambria County, Pa. Application for groundwater withdrawal of up to 0.260 mgd (30-day average) from Mine Spring No. 1 Well.

11. Project Sponsor: New York State Office of Parks, Recreation and Historic Preservation. Project Facility: Indian Hills State Golf Course (Irrigation Pond), Towns of Erwin and Lindley, Steuben County, N.Y. Applications for an existing surface water withdrawal of up to 0.940 mgd (peak day) and consumptive use of up to 0.850 mgd (peak day).

Authority: Pub.L. 91-575, 84 Stat. 1509 et seq., 18 CFR parts 806, 807, and 808.

Dated: December 15, 2020.
Jason E. Oyler,
General Counsel and Secretary to the Commission.

[FR Doc. 2020-27962 Filed 12-17-20; 8:45 am]

BILLING CODE 7040-01-P